Proclamation 9124 of May 9, 2014

Mother's Day, 2014

By the President of the United States of America

A Proclamation

For over a century, Americans have come together to celebrate our first friends and mentors, our inspirations and constant sources of strength. Our mothers are breadwinners, community leaders, and pillars of family. They pioneer scientific discoveries, serve with valor in our Armed Forces, and represent our Nation in the loftiest halls of Government. Whether biological, adoptive, or foster, they play a singular role in our lives. Because they so often put everything above themselves, on Mother's Day, we put our moms first.

Through centuries of organizing, marching, and making their voices heard, mothers have won greater opportunities than ever before for themselves and their children. Their victories brought our Nation closer to realizing a sacred founding principle—that we are all created equal and each of us deserves the chance to pursue our own version of happiness.

Today, there are more battles to win. Working mothers increasingly provide the majority of their family's income, yet even now, discrimination prevents women from earning a living equal to their efforts. My Administration is proud to fight alongside women as they push to close the gender pay gap, shatter glass ceilings, and implement workplace policies that do not force any parent to choose between their jobs and their kids. Because when women succeed, America succeeds.

By words and example, mothers teach us how to grow and who to become. They shape lasting habits that can lead to healthy living and lifelong learning. They demonstrate what is possible when we work hard and apply our talents. Without complaint, they give their best every day so they and their children might achieve the scope of their dreams. Today, let us once again extend our gratitude for our mothers' unconditional love and support—during years past and in the years to come.

The Congress, by a joint resolution approved May 8, 1914 (38 Stat. 770), has designated the second Sunday in May each year as “Mother's Day” and requested the President to call for its appropriate observance.

NOW, THEREFORE, I, BARACK OBAMA, President of the United States of America, do hereby proclaim May 11, 2014, as Mother's Day. I urge all Americans to express love and gratitude to mothers everywhere, and I call upon all citizens to observe this day with appropriate programs, ceremonies, and activities.

IN WITNESS WHEREOF, I have hereunto set my hand this ninth day of May, in the year of our Lord two thousand fourteen, and of the Independence of the United States of America the two hundred and thirty-eighth.

[FR Doc. 2014-11308

Filed 5-13-14; 11:15 am]

Billing code 3295-F4